DEPARTMENT OF ENERGY

Western Area Power Administration

Environmental Impact Statement for the Proposed Big Sandy Project, Arizona

AGENCY: Western Area Power Administration, DOE.

ACTION: Notice of Intent

SUMMARY: In accordance with Section 102(2) of the National Environmental Policy Act (NEPA) of 1969, 42 U.S.C. 4332, Western Area Power Administration (Western), and the Bureau of Land Management (BLM), Kingman Field Office, intend to prepare an Environmental Impact Statement (EIS) regarding the proposal by Caithness Big Sandy, LLC (Caithness), an energy development and operating company, to construct a 720 megawatt (MW) electric generating facility, including a 16-inch, high-pressure natural gas supply pipeline, permanent access road, and water supply wells and pipeline system. Caithness proposes to interconnect the generating facility with the existing Mead-Phoenix Project 500-kilovolt (kV) Transmission Line near Wikieup, Arizona. The generating facility would be constructed on private land in Mohave County, Arizona. The natural gas supply pipeline and access road would be constructed on private and public lands. The Federal public lands are administered by the U.S. Department of the Interior, BLM. Per 40 CFR part 1501.5(b), Western and BLM will serve as joint lead agencies to prepare the EIS.

This notice announces Western's and BLM's intention to prepare an EIS and hold a public scoping meeting for the proposed project. The scoping process will include notifying the general public and Federal, State, local, and tribal agencies of the proposed action. The purpose of scoping is to identify public and agency issues, and alternatives to be considered in the EIS.

DATES: The scoping meeting will be held on May 3, 2000, beginning at 7 p.m., in Wikieup, Arizona. Written comments on the scope of the EIS for the proposed project should be received no later than June 2, 2000. Comments on the project will be accepted throughout the NEPA process.

ADDRESSES: The scoping meeting will be held at Owens Whitney School, 14109 Chicken Springs Road, Wikieup, Arizona. Comments should be addressed to Mr. John Holt, Environment Manager, Desert Southwest Customer Service Region, Western Area Power Administration, P.O. Box 6457, Phoenix, AZ 85005, fax (602) 352-2630, e-mail holt@wapa.gov; or Mr. Don McClure, Planning and Environmental Specialist, Kingman Field Office, Bureau of Land Management, 2475 Beverly Avenue, Kingman, AZ 86401, fax (520) 692-4414, e-mail don_mcclure@blm.gov.

FOR FURTHER INFORMATION CONTACT: Mr. John Holt, Environment Manager, Western Area Power Administration at the address or fax above, telephone (602) 352-2592, or Ms. Sally Edwards, BLM Project Manager, 2475 Beverly Avenue, Kingman, AZ 86401, telephone (970) 593-0501, fax (520) 692-4414, e-mail sei@frii.com. For general information on the U.S. Department of Energy's (DOE) NEPA review procedures or status of a NEPA review, contact Ms. Carol M. Borgstrom, Director, Office of NEPA Policy and Assistance, EH-42, U.S. Department of Energy, 1000 Independence Avenue, SW, Washington, DC 20585, telephone (202) 586-4600 or (800) 472-2756. For information related to BLM NEPA compliance, contact Mr. Don McClure, Planning and Environmental Specialist, at address or fax above, telephone (520) 692-4403.

SUPPLEMENTARY INFORMATION: Caithness proposes to construct the Big Sandy Project on private and public lands near Wikieup, Arizona. The project would be a “merchant plant,” meaning it would not be owned by a utility nor by a utility affiliate selling power to its utility, nor is it supported by a long-term power purchase agreement with a utility. Caithness would sell power on a short and mid-term basis to customers and the on-the-spot market. Power purchases by customers would be voluntary, and all economic costs would be borne by Caithness.

The project would consist of two phases. The first phase would consist of a 500 MW natural gas-fired, combined cycle power plant and on-site supporting infrastructure including an administration building, warehouse storage, water treatment and storage facilities, cooling towers, water storage/evaporation pond, gas conditioning equipment, and a new access road; a new 500-kV switchyard with electrical equipment to accommodate an interconnection with the Mead-Phoenix Project 500-kV Transmission Line; a 16-inch, high-pressure natural gas supply pipeline between the generating facility and at least one natural gas supply line; and water supply wells and pipeline system. The second phase would consist of an additional 220 MW combined-cycle power plant that would be installed adjacent to the first phase power plant. The generating facility and infrastructure would be built on private property in Section 5, Township 15 North, Range 12 West, about 4 miles southeast of Wikieup, Arizona, and about 2 miles east of the U.S. Highway 93 crossing of the Big Sandy River. The water supply wells would provide potable and cooling water. The project's water requirements would be approximately 3,200 acre-feet annually. A new buried supply pipeline would bring high-pressure gas to the generating facility to fuel the gas-fired turbines from at least one of several natural gas transmission pipelines that are located about 36 miles north of the generating facility. The new gas pipeline would be constructed parallel, within and/or adjacent to rights-of-way for U.S. Highway 93, and Mohave County roads and utility easements. The pipeline would cross private and public lands administered by the BLM and the Arizona State Land Department.

In accordance with DOE policy on open transmission access and Western's Open Access Transmission Tariff, Western proposes to enter into construction and interconnection agreements with Caithness to provide an interconnection with the Mead-Phoenix Project Transmission Line and transmission services to deliver power from the generating facility. The proposal would incorporate new generation into Western's transmission system.

Construction of the project would take about 18 months, beginning in early 2001, with the first phase in commercial operation by summer 2002. The Arizona Department of Transportation is currently conducting an Environmental Assessment on a proposal to widen U.S. Highway 93 between Wikieup and Interstate 40. Caithness proposes to site the natural gas supply pipeline within and/or adjacent to the U.S. Highway 93 rights-of-way. Initial highway widening construction is planned for 2003. Therefore, the proposed natural gas supply pipeline would be installed prior to the highway widening.

Caithness has selected the site for the generating facility on private land based on land and water availability, close proximity to Western's Mead-Phoenix Project 500-kV Transmission Line, and other considerations. State and local agencies are responsible for siting and permitting the proposed generating facility. If the project is approved, the location of the generating facility necessitates that the proposed natural gas supply pipeline, a permanent access road, and a portion of the water pipeline system use BLM-managed lands.

The EIS will be prepared following the requirements of the Council on Environmental Quality's NEPA implementing regulations (40 CFR part 1500-1508). The EIS will include the analysis of effects from constructing and operating of all components of the project. The no action alternative will be analyzed in the EIS. The EIS will address alternate routings for the natural gas supply pipeline, connection locations to existing natural gas supply pipelines, location of worker accommodations, long-term water supply and use, and other issues raised during the scoping process. Full public participation, disclosure, coordination, and involvement with appropriate Federal, State, local, and tribal government agencies are planned for the entire EIS process. The EIS process will include public information/scoping meetings (May 2000), public review of the Draft EIS (September 2000), a public hearing on the Draft EIS (October 2000), distribution of the Final EIS (January 2001), and Western's and BLM's independent Records of Decision (February 2001).

The licensing and permitting for the project is expected to be completed in March 2001 when construction of the first phase would begin. Commercial operation is scheduled to begin in August 2002. The second phase is planned to be completed in December 2003.

Dated: April 6, 2000.
Michael S. Hacskaylo,
Administrator.

[FR Doc. 00-9632 Filed 4-17-00; 8:45 am]

BILLING CODE 6450-01-P